DEPARTMENT OF AGRICULTURE

Agricultural Marketing Service

[Doc. No. AMS-FV-09-0052; FV-09-326]

United States Standards for Grades of Frozen Blueberries

AGENCY: Agricultural Marketing Service, USDA.

ACTION: Notice; withdrawal.

SUMMARY: The Agricultural Marketing Service (AMS), of the United States Department of Agriculture (USDA) is withdrawing a notice soliciting comments on its proposed revision to the United States Standards for Grades of Frozen Blueberries. After considering the comments received regarding the proposed revision and the withdrawal of the petition requesting revisions, the agency has decided not to proceed with this action.

DATES: Effective Date: April 29, 2010.

FOR FURTHER INFORMATION CONTACT: Myron Betts, Inspection and Standardization Section, Processed Products Branch (PPB), Fruit and Vegetable Programs (FV), AMS, USDA, 1400 Independence Avenue, SW., Room 0709, South Building; STOP 0247, Washington, DC 20250; Telephone: (202) 720-5021 or fax (202) 720-9906; or e-mail: Myron.Betts@ams.usda.gov. The United States Standards for Grades of Frozen Blueberries are available by accessing the AMS Web site on the Internet at http://www.ams.usda.gov/processedinspection.

Background

On August 22, 2008, AMS received a petition from the North American Blueberry Council (NABC), requesting revisions to the United States Standards for Grades of Frozen Blueberries. These standards are issued under the Agricultural Marketing Act of 1946 (7 U.S.C. 1621-1627).

The petitioner requested the USDA to revise the terminology used for the product description of frozen blueberries. On December 22, 2008, prior to undertaking research and other work associated with revising an official grade standard, AMS published a notice in the Federal Register (73 FR 78285) soliciting comments on the petition to revise the U.S. Standards for Grades of Frozen Blueberries. AMS received two comments: one from the USDA, Agricultural Research Service and the other from the American Frozen Food Institute. Both commenters stated that the proposal should include all hybrids and cultivars of the appropriate species.

Given the absence of product samples and additional information on the berries that were the subject of its petition, NABC withdrew its request. Accordingly, after considering the comments received regarding the proposed revision and the withdrawal of the petition requesting revisions; AMS has decided not to proceed further with the proposed revision to the U.S. Standards for Grades of Frozen Blueberries. The notice published in the Federal Register on December 22, 2008 (73 FR 87285) is hereby withdrawn.

Authority: 7 U.S.C. 1621-1627.

Dated: April 22, 2010.
David R. Shipman,
Acting Administrator, Agricultural Marketing Service.

[FR Doc. 2010-9869 Filed 4-28-10; 8:45 am]

BILLING CODE 3410-02-M